DEPARTMENT OF HOMELAND SECURITY

[DHS/ICE-CBP-001]

Privacy Act of 1974; System of Records

AGENCY: Department of Homeland Security (DHS).

ACTION: Notice of Privacy Act System of Records.

SUMMARY: This notice addresses the previously established ADIS system, a portion of which is the U.S. Visitor and Immigrant Status Indicator Technology (US-VISIT) program. This notice allows the ADIS system to collect biometric and biographic data for US-VISIT. US-VISIT has created a new business process that integrates and enhances the capabilities of existing systems, including the ADIS system.

DATES: Written comments must be submitted on or before January 12, 2004.

ADDRESSES: Please address your comments to the Privacy Office, U.S. Department of Homeland Security, Washington, DC 20528. You must identify the Docket Number DHS/ICE-CBP-001 at the beginning of your comments, and you should submit two copies of the comments. You may also submit comments via e-mail at privacy@dhs.gov. Please reference the Docket Number shown above in the subject line of the e-mail. If you wish to receive confirmation that DHS has received your comments, please include a self-addressed, stamped postcard with your request. DHS will make comments received available online at http://www.dhs.gov.

FOR FURTHER INFORMATION CONTACT: If you have any questions about this notice, please call Nuala O'Connor Kelly, Chief Privacy Officer, U.S. Department of Homeland Security, Washington, DC 20528, Phone: 202-282-8000; Fax 202-772-5036.

SUPPLEMENTARY INFORMATION: In accordance with the Privacy Act of 1974, as amended, 5 U.S.C. 552a, the DHS is publishing this notice regarding an existing system of records, known as the Arrival and Departure Information System (ADIS). This system is intended to provide biometric and biographic information for US-VISIT. The purpose of the amended system is to support US-VISIT to record information pertinent to the arrival and departure of immigrants and nonimmigrants to and from the United States.

The DHS intends to compile and maintain these records in a secure electronic database serviced and maintained by Federal agency and or contractor personnel who will be bound by the restrictions of the Privacy Act. The records will ultimately be under the general supervision of components of the DHS, with technical support from the DHS's Office of the Chief Information Officer.

System records will be subject to appropriate safeguards to prevent unauthorized disclosure or tampering.

DHS/ICE CBP-001-03

System Name:

Arrival and Departure Information System (ADIS).

System Location:

Department of Homeland Security (DHS) field offices for the U.S. Immigration and Customs Enforcement (ICE), Bureau of Customs and Border Protection (CBP), and the U.S. Citizenship and Immigration Services (USCIS); Service Centers; Border Patrol Sectors (including all offices under their jurisdiction); Ports of Entry; Asylum offices and other offices as detailed in DHS-DS-999, last published in the Federal Register on October 17, 2002 (67 FR 64136) and on the web page of each bureau (i.e., http://www.bice.immigration.gov, http://www.bcbp.gov, and http://www.uscis.immigration.gov); Office of National Risk Assessment (ONRA).

Categories of Individuals Covered By the System:

The ADIS database contains arrival/departure, biographic and biometric indicator information on immigrants and nonimmigrants entering and departing the United States. The ADIS database contains biographic arrival/departure information on legal permanent residents. Although this system primarily consists of immigrants, nonimmigrants and Lawful Permanent Residents, some of them may change status and become Lawful Permanent Residents and U.S. citizens. For the purposes of the U.S. Visitor Immigrant Status Indicator Technology (US-VISIT) program, non-U.S. citizens who present themselves for entry into and/or exit from the United States including individuals subject to the requirements and processes of US-VISIT are included in ADIS. Individuals covered under US-VISIT include those who are not U.S. citizens or Lawful Permanent Residents at the time of entry or exit or are U.S. citizens or Lawful Permanent Residents who have not identified themselves as such at the time of entry or exit.

Categories of Records in the System:

The ADIS database is a centralized application designed to create, update and report immigrants' and nonimmigrants' arrivals and departures to and from the United States. The system also contains biographic, biometric indicator and address information.

Authority for Maintenance of the System:

8 U.S.C. 1365a.

Purpose(s):

This system of records is established and maintained to enable DHS to carry out its assigned national security, law enforcement, immigration control, national security and other mission-related functions and to provide associated management reporting, planning and analysis. Specifically, the ADIS database is a system of records tracking immigrants, nonimmigrants and Lawful Permanent Residents arriving in and departing from the United States. It enables the Secretary of Homeland Security to identify, through on-line searching procedures, lawfully admitted nonimmigrants who remain in the United States beyond the period of authorized stay, and to analyze information gathered for the purpose of this and other DHS programs. In addition to arrival and departure information, each record also provides complete name, date of birth, nationality, gender, passport number and country of issuance, country of residence, U.S. visa number including date and place of issuance if applicable, alien registration number if applicable, immigration status, complete address while in the United States, and Fingerprint Identification Number System (FINS) number. The system assists the DHS in supporting immigration inspection at POEs by providing quick retrieval of biographic and biometric indicator data on individuals who may be inadmissible to the United States. Furthermore, the system interfaces with the Student and Exchange Visitor Information System (SEVIS), the Computer Linked Applications Information Management System (CLAIMS), the Passenger Processing Component of the Treasury Enforcement Communications System (TECS) and the Automated Fingerprint Identification System (IDENT). It facilitates the investigation process of individuals who may have violated their immigration status.

Routine Uses of Records Maintained in the System Including Categories of Users and Purpose of Such Uses:

Relevant information contained in this system of records may be disclosed as follows:

A. To appropriate government agencies or organizations(regardless of whether they are Federal, State, local, foreign, or tribal), lawfully engaged in collecting law enforcement intelligence information (whether civil or criminal) and/or charged with investigating, prosecuting, enforcing or implementing civil and/or criminal laws, related rules, regulations or orders, to enable these entities to carry out their law enforcement responsibilities.

B. To an attorney or representative who is acting on behalf of an individual covered by this system of records as defined in 8 CFR 1.1(j) in any proceeding before the Executive Office for Immigration Review.

C. In a proceeding before a court, grand jury, or adjudicative body when records are determined by the Department of Homeland Security to be arguably relevant to the proceeding where any of the following is a party: (1) The DHS, or any DHS component, or subdivision thereof; (2) any DHS employee in his or her official capacity; (3) any DHS employee in his or her individual capacity when the DHS has agreed to represent the employee or has authorized a private attorney to represent him or her; and (4) the United States, where the DHS or its components are likely to be affected.

D. To a member of Congress or staff acting on the Member's behalf when the Member or staff requests the information on behalf of and at the request of the individual who is the subject of the record.

E. To the General Service Administration and the National Archives and Records Administration (NARA) in records management inspections conducted under the authority of 44 U.S.C. 2904 and 2906.

F. To the news media and the public when there exists a legitimate public interest in the disclosure of the information or when disclosure is necessary to preserve confidence in the integrity of the Department or is necessary to demonstrate the accountability of the Department's officers, employees, or individuals covered by the system, except to the extent it is determined that release of the specific information in the context of a particular case would constitute an unwarranted invasion of personal privacy.

G. To contractors, grantees, experts, consultants, students, and others performing or working on a contract, service, grant, cooperative agreement, or other assignment for the Federal government, when necessary to accomplish an agency function related to this system of records.

H. To a former employee of the Department for purposes of responding to an official inquiry by a Federal, State, or local government entity or professional licensing authority in accordance with applicable Department regulations, or facilitating communications with a former employee that may be necessary for personnel-related or other official purposes where the Department requires information and/or consultation assistance from the former employee regarding a matter within that person's former area of responsibility.

I. To a Federal, State, tribal, local or foreign government agency in response to its request, in connection with the hiring or retention by such agency of an employee, the issuance of a security clearance, the reporting of an investigation of such an employee, the letting of a contract, or the issuance of a license, grant, loan or other benefit by the requesting agency, to the extent that the information is relevant and necessary to the requesting agency's decision on the matter.

policies and practices for storing, retrieving, accessing, retaining, and disposing of records in the system

Storage:

These records are stored in a central computer database.

Retrievability:

These records may be searched on a variety of data elements including name, place and date of entry or departure, country of citizenship, admission number, and FINS number used to track the particular fingerprints.

Safeguards:

The system is protected through a multi-layer security approach. The protective strategies are physical, technical, administrative and environmental in nature and provide access control to sensitive data, physical access control to DHS facilities, confidentiality of communications, authentication of sending parties, and personnel screening to ensure that all personnel with access to data are screened through background investigations commensurate with the level of access required to perform their duties.

Retention and Disposal:

Records will be retained for 100 years. This policy proposal for retention and disposal of records in the ADIS database is pending approval by the NARA.

System Manager(s) and Address:

Program Manager, ADIS Program Management Office, 1616 North Fort Myer Drive, Arlington, VA 22209.

Notification Procedure:

Address inquiries to the system manager identified above.

Records Access Procedure:

Since the Privacy Act applies to only U.S. citizens and legal permanent residents, this notice covers only U.S. citizens and Lawful Permanent Residents whose information is contained in this system. Make all requests for access in writing and by mail to the system manager noted above. The envelope and letter shall be clearly marked Privacy Access Request. Include a description of the general subject matter, the related file number if known, and any other identifying information which may be of assistance in locating the record. To identify a record, the requester should provide his or her full name, date and place of birth, verification of identity in accordance with 8 CFR 103.21(b). The requester shall also provide a return address for transmitting the records to be released.

Contesting Records Procedures:

The following procedures cover only U.S. citizens and Lawful Permanent Residents whose information is contained in this system. U.S. citizens and Lawful Permanent Residents who wish to contest or seek amendment of their records should direct a written request to the system manager. The request should include the requestor's full name, current address and date of birth, a copy of the record in question, and a detailed explanation of the change sought. If the matter cannot be resolved by the system manager, further appeal for resolution may be made to the DHS Privacy Office.

Record Source Categories:

Basic information is obtained from individuals, the individuals' attorney or representative, DHS and DOS officials, and other Federal, State, and local officials.

Systems Exempted from Certain Provisions of the Act:

The Secretary of Homeland Security has exempted this system from subsections (c)(3) and (4), (d), (e)(1), (2), and (3), (e)(4)(G) and (H), (e)(5) and (8), and (g) of the Privacy Act pursuant to 5 U.S.C. 552a(j)(2). In addition, the Secretary of Homeland Security has exempted portions of this system from subsections (c)(3), (d), (e)(1), (e)(4)(G) and (H) of the Privacy Act pursuant to 5 U.S.C. 552a(k)(2). These exemptions apply only to the extent that records in the system are subject to exemption pursuant to 5 U.S.C. 552a(j)(2) and (k)(2).

Dated: December 8, 2003.
Nuala O'Connor Kelly,
Chief Privacy Officer.

[FR Doc. 03-30761 Filed 12-9-03; 12:02 pm]

BILLING CODE 4410-10-P